INTERNATIONAL TRADE COMMISSION

[Investigation 332-433]

NAFTA: Probable Economic Effect of Accelerated Tariff Elimination

AGENCY: International Trade Commission.

ACTION: Institution of investigation.

EFFECTIVE DATE: September 10, 2001.

SUMMARY: Following receipt of a request from the United States Trade Representative (USTR) on August 30, 2001, the Commission instituted Investigation No. 332-433, NAFTA: Probable Economic Effect of Accelerated Tariff Elimination, under section 332(g) of the Tariff Act of 1930 (19 U.S.C. 1332(g)) to provide advice to the President and the USTR with respect to each article listed in an attachment to the USTR letter as to the probable economic effect of the elimination of the U.S. tariff under the North American Free Trade Agreement (NAFTA) on domestic industries producing like or directly competitive articles, workers in these industries, and on consumers of the affected goods. All of the listed articles are footwear products. The USTR asked that the Commission provide its advice no later than October 12, 2001.

FOR FURTHER INFORMATION CONTACT: For general information, contact Laura Rodriguez (202-205-3499; lrodriguez@usitc.gov), of the Office of Industries; for information on legal aspects, contact William Gearhart (202-205-3091; wgearhart@usitc.gov) of the Office of the General Counsel. The media should contact Margaret O'Laughlin, Public Affairs Officer (202-205-1819). Hearing impaired individuals may obtain information on this matter by contacting the Commission's TDD terminal on 202 205-1810. Persons with mobility impairments who will need special assistance in gaining access to the Commission should contact the Office of the Secretary at 202-205-2000. General information about the Commission may be obtained by accessing its Internet server (http://www.usitc.gov).

Background

The letter from the USTR stated that the United States and Mexico have agreed to enter into consultations to consider acceleration of the elimination of tariffs on certain articles. Section 201(b)(1) of the North American Free Trade Agreement Implementation Act (the “Act”) authorizes the President, subject to the consultation and layover requirements of section 103(a) of the Act, to proclaim such modifications as the United States may agree to with Mexico or Canada regarding the staging of any duty treatment set forth in Annex 302.2 of the NAFTA. One of the requirements set out in section 103(a) of the Act is that the President obtain advice regarding the proposed action from the Commission. The USTR requested advice with respect to NAFTA-qualifying articles from Mexico entered under the following subheadings of the Harmonized Tariff Schedule of the United States: 6402.3090, 6404.1120, 6404.1950, 6404.2040, 6406.1045, 6402.9160, 6404.1915, 6404.1960, 6404.2060, 6402.9170, 6404.1925, 6404.1970, 6406.1005, 6402.9960, 6404.1930, 6404.1980, 6406.1010, 6402.9970, 6404.1935, 6404.2020, 6406.1020.

Written Submissions

The Commission will not hold a public hearing in connection with the advice provided under this investigation. However, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of § 201.6 of the Commission's Rules of Practice and Procedure (19 CFR 201.6). The Commission's rules do not authorize filing of submissions by facsimile or electronic means. All written submissions, except for confidential business information, will be made 2 available for inspection by interested persons in the Office of the Secretary to the Commission. Written statements relating to the Commission's report should be submitted at the earliest practical date and should be received no later than the close of business on September 28, 2001. All submissions should be addressed to the Secretary, United States International Trade Commission, 500 E Street, SW, Washington, DC 20436.

Issued: September 10, 2001.
By order of the Commission.
Donna R. Koehnke,
Secretary.

[FR Doc. 01-23030 Filed 9-12-01; 8:45 am]

BILLING CODE 7020-02-P